DEPARTMENT OF COMMERCE

National Oceanic and Atmospheric Administration

[I.D. 011100C]

Pacific Fishery Management Council; Public Meeting

AGENCY: National Marine Fisheries Service (NMFS), National Oceanic and Atmospheric Administration (NOAA), Commerce.

ACTION: Notice of public meeting.

SUMMARY: The Pacific Fishery Management Council's (PFMC) Groundfish Management Team (GMT) will hold a working meeting which is open to the public.

DATES: The GMT working meeting will be begin Monday, February 7, 2000, at 1 p.m. and may go into the evening until business for the day is completed. The meeting will reconvene from 8 a.m. to 5 p.m. Tuesday, February 8 through Friday, February 11.

ADDRESSES: The meetings will be held at the Pacific Fishery Management Council office, Conference Room, 2130 SW Fifth Avenue, Suite 224, Portland, OR; telephone: 503-326-6352.

FOR FURTHER INFORMATION CONTACT: Jim Glock, Groundfish Fishery Management Coordinator; telephone: (503) 326-6352.

SUPPLEMENTARY INFORMATION: The purpose of the GMT meeting is to prepare reports and technical advice for the upcoming PFMC meeting and in support of PFMC decisions throughout the year. The GMT will discuss, receive reports, and/or prepare reports on the following topics during this working session: (1) GMT organization and work plan for 2000; (2) exempted fishing permits; (3) strategic plan; (4) estimation of rockfish bycatch rates in setnet and other open access fisheries; (5) review observer program amendment, if available; (6) preparation for harvest rate workshop; (7) review of 2000 management measures and preparation of plan amendment; (8) plan amendment for bycatch and other issues; (9) review proposal to allow use of open access gear to harvest limited entry trip limits; (10) other issues including marine reserves and habitat areas of particular concern.

Although non-emergency issues not contained in this agenda may come before the Council for discussion, in accordance with the Magnuson-Stevens Fishery Conservation and Management Act, those issues may not be the subject of formal action during this meeting. Action will be restricted to those issues specifically listed in this notice and any issues arising after publication of this notice that require emergency action under section 305(c) of the Magnuson-Stevens Fishery Conservation and Management Act, provided the public has been notified of the Council's intent to take final action to address the emergency.

Special Accommodations

The meeting is physically accessible to people with disabilities. Requests for sign language interpretation or other auxiliary aids should be directed to Mr. John Rhoton at (503) 326-6352 at least 5 days prior to the meeting date.

Dated: January 12, 2000.
Bruce C. Morehead,
Acting Director, Office of Sustainable Fisheries, National Marine Fisheries Service.

[FR Doc. 00-1206 Filed 1-18-00; 8:45 am]

BILLING CODE 3510-22-F